DEPARTMENT OF ENERGY

Federal Energy Regulatory Commission

[Docket No. CP13-79-000]

Equitrans, L.P. Notice of Request Under Blanket Authorization

Take notice that on February 12, 2013, Equitrans, L.P. (Equitrans), pursuant to the blanket certificate authorization granted in Docket No. CP96-532-000,¹ filed an application in accordance to sections 157.205, 157.208(c), and 157(210) of the Commission's Regulations under the Natural Gas Act (NGA) as amended, to construct, own, operate, and maintain its Low Pressure East Upgrade Project (Project) in Allegheny, Washington, and Greene Counties, Pennsylvania. Equitrans proposes to replace and pressure test certain portions of its H-129, H-128, and H-111 pipelines and to retest the H-101 pipeline. The replacement and retest of pipelines will result in an increase in Maximum Allowable Operating Pressure (MAOP). The proposed Project will allow for more flexibility for Equitrans' customers to better serve Pittsburgh and surrounding markets, all as more fully set forth in the application which is on file with the Commission and open to public inspection.

¹ Equitrans, L.P., 85 FERC ¶ 61,089 (1998).

Equitrans proposes to replace approximately 4.91 miles of pipe and to pressure test 10.10 miles of existing pipeline to better maintain system integrity and operational reliability. In addition, launchers and receivers will be installed on the facilities, which will make the line capable of in-line inspections for integrity purposes with out disruption to customer service. Also, Equitrans proposes to upgrade interconnects, meter taps, and appurtenant facilities along its system in Allegheny, Washington, and Greene Counties, Pennsylvania. As a result of the proposed Project, the MAOP of the Project will increase from about 216 psig to 655 psig, except for a small portion of the H-111 line which will be increased to an MAOP of 546 psig. Increasing the MAOP will position Equitrans to be able to receive gas in the future from high-pressure production wells located in the Marcellus Shale Play. Equitrans anticipates that work on all pipeline replacement and retest activities will be performed within previously disturbed areas used during the original installation of the pipeline facilities. A 75-foot temporary construction right-of-way that includes the existing right-of-way will be used during construction of the Project. Equitrans estimates that the cost of the Project will be approximately $29,407,261. The projected in-service date of the Project is November 1, 2013.

Any questions concerning this application may be directed to Paul W. Diehl, Senior Counsel—Midstream EQT Corporation, 625 Liberty Avenue, Suite 1700, Pittsburgh, PA 15222, (412) 395-5540, or email at PDiehl@eqt.com.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: February 21, 2013.
Kimberly D. Bose,
Secretary.

[FR Doc. 2013-04654 Filed 2-27-13; 8:45 am]

BILLING CODE 6717-01-P